ENVIRONMENTAL PROTECTION AGENCY

[EPA-HQ-OAR-2010-0108; FRL-9502-8]

Release of Final Integrated Review Plan for the National Ambient Air Quality Standards for Lead

AGENCY: Environmental Protection Agency (EPA).

ACTION: Notice of Availability.

SUMMARY: On or about November 18, 2011, the EPA will make available to the public the final document, Integrated Review Plan for the National Ambient Air Quality Standards for Lead. This document contains the plans for the review of the air quality criteria and national ambient air quality standards (NAAQS) for lead (Pb). The Pb NAAQS provide for the protection of public health and the environment from Pb emitted to ambient air.

FOR FURTHER INFORMATION CONTACT: Dr. Deirdre Murphy, Office of Air Quality Planning and Standards (Mail code C504-06), U.S. Environmental Protection Agency, Research Triangle Park, NC 27711; telephone number: (919) 541-0729; fax number: (919) 541-0237; email address: murphy.deirdre@epa.gov.

SUPPLEMENTARY INFORMATION:

I. General Information

A. How can I get copies of this document and related information?

1. Docket. The EPA has established a docket for this action under Docket ID No. EPA-HQ-OAR-2010-0108. A separate docket established for the Integrated Science Assessment being prepared for this action (EPA-HQ-ORD-2011-0051) is also incorporated into the rulemaking docket for this review. Publicly available docket materials are available electronically through http://www.regulations.gov or may be viewed at the Air and Radiation Docket and Information Center, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Air and Radiation Docket and Information Center is (202) 566-1742.

2. The document announced today and related information will be available via the Internet at the EPA's Technology Transfer Network (TTN) Web site at http://www.epa.gov/ttn/naaqs/standards/pb/s_pb_index.html. The document announced today will be accessible in the “Documents from Current Review” section under “Planning Documents.”

II. Information Specific to This Document

Two sections of the Clean Air Act govern the establishment and revision of the NAAQS. Section 108 (42 U.S.C. section 7408) directs the Administrator to identify and list certain air pollutants and then to issue air quality criteria for those pollutants. The Administrator is to list those air pollutants that in her “judgment, cause or contribute to air pollution which may reasonably be anticipated to endanger public health or welfare;” “the presence of which in the ambient air results from numerous or diverse mobile or stationary sources;” and “for which * * * [the Administrator] plans to issue air quality criteria * * *” Air quality criteria are intended to “accurately reflect the latest scientific knowledge useful in indicating the kind and extent of all identifiable effects on public health or welfare which may be expected from the presence of [a] pollutant in the ambient air * * *.” 42 U.S.C. 7408(b). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria * * * and the national primary and secondary ambient air quality standards * * * and shall recommend to the Administrator any new * * * standards and revisions of existing criteria and standards as may be appropriate * * *.” Since the early 1980's, this independent review function has been performed by the Clean Air Scientific Advisory Committee (CASAC).

Presently, the EPA is reviewing the NAAQS for Pb.¹ The document announced today has been developed as part of the planning phase for the review. This phase began with a science policy workshop to identify issues and questions to frame the review. Drawing from the workshop discussions, a draft integrated review plan (IRP) was prepared jointly by the EPA's National Center for Environmental Assessment, within the Office of Research and Development, and the EPA's Office of Air Quality Planning and Standards, within the Office of Air and Radiation. The draft IRP was the subject of a consultation with CASAC on May 5, 2011, and was available for public comment (76 FR 20347). The final IRP announced today has been prepared after consideration of CASAC and public comments. This document presents the EPA's current plans for the schedule for the entire review, the process for conducting the review, and the key policy-relevant science issues that will guide the review. This document does not represent and should not be construed to represent any final EPA policy, viewpoint, or determination.

¹ The EPA's call for information for this review was issued on February 26, 2010 (75 FR 8934).

Dated: December 5, 2011.
Mary E. Henigin,
Acting Director, Office of Air Quality Planning and Standards.

[FR Doc. 2011-31683 Filed 12-8-11; 8:45 am]

BILLING CODE 6560-50-P